DEPARTMENT OF THE INTERIOR

National Park Service

[NPS-WASO-NAGPRA-NPS0024745; PPWOCRADN0-PCU00RP14.R50000]

Notice of Inventory Completion: Peabody Museum of Natural History, Yale University, New Haven, CT

AGENCY: National Park Service, Interior.

ACTION: Notice.

SUMMARY: The Peabody Museum of Natural History has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Peabody Museum of Natural History. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Peabody Museum of Natural History at the address in this notice by March 1, 2018.

ADDRESSES: Professor David Skelly, Director, Yale Peabody Museum of Natural History, P.O. Box 208118, New Haven, CT 06520-8118, telephone (203) 432-3752.

SUPPLEMENTARY INFORMATION: Notice is here given in accordance with the Native American Graves Protection and Repatriation Act (NAGPRA), 25 U.S.C. 3003, of the completion of an inventory of human remains under the control of the Peabody Museum of Natural History, Yale University, New Haven, CT. The human remains were removed from the Arikaree Fork of the Republican River, Cheyenne County, KS.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Peabody Museum of Natural History professional staff in consultation with representatives of the Arapaho Tribe of the Wind River Reservation, Wyoming; Cheyenne and Arapaho Tribes, Oklahoma (previously listed as the Cheyenne-Arapaho Tribes of Oklahoma); and the Northern Cheyenne Tribe of the Northern Cheyenne Indian Reservation, Montana.

History and Description of the Remains

At some time prior to 1871, human remains representing, at minimum, one individual were removed from the Arikaree Fork of the Republican River in Cheyenne County, KS. The human remains, that of an adult male, were donated to the Peabody Museum in 1871 by Dr. W.H. King, the post surgeon stationed at Fort Wallace, KS. No known individual was identified. No associated funerary objects are present.

Peabody Museum records identify this individual as Native American and Arapaho. The condition of the human remains suggests cleaning occurred immediately after death, a common 19th century practice at U.S. military forts in the west. U.S. soldiers and fort personnel routinely collected the remains of recently deceased Native Americans to send back east for preservation in museums and universities. The treatment of these human remains is consistent with that practice.

At the time of donation, these human remains were identified as Arapaho. The descendants of the Arapaho of the 19th century are members of the Arapaho Tribe of the Wind River Reservation, Wyoming, and the Cheyenne and Arapaho Tribes, Oklahoma (previously listed as the Cheyenne-Arapaho Tribes of Oklahoma).

Determinations Made by the Peabody Museum of Natural History, Yale University

Officials of the Peabody Museum of Natural History have determined that:

• Pursuant to 25 U.S.C. 3001(9), the human remains described in this notice represent the physical remains of one individual of Native American ancestry.

• Pursuant to 25 U.S.C. 3001(2), there is a relationship of shared group identity that can be reasonably traced between the Native American human remains and the Arapaho Tribe of the Wind River Reservation, Wyoming, and the Cheyenne and Arapaho Tribes, Oklahoma (previously listed as the Cheyenne-Arapaho Tribes of Oklahoma).

Additional Requestors and Disposition

Lineal descendants or representatives of any Indian Tribe or Native Hawaiian organization not identified in this notice that wish to request transfer of control of these human remains should submit a written request with information in support of the request to Professor David Skelly, Director, Yale Peabody Museum of Natural History, P.O. Box 208118, New Haven, CT 06520-8118, telephone (203) 432-3752, by March 1, 2018. After that date, if no additional requestors have come forward, transfer of control of the human remains to the Arapaho Tribe of the Wind River Reservation, Wyoming, and the Cheyenne and Arapaho Tribes, Oklahoma (previously listed as the Cheyenne-Arapaho Tribes of Oklahoma), may proceed.

The Peabody Museum of Natural History is responsible for notifying the Arapaho Tribe of the Wind River Reservation, Wyoming, and the Cheyenne and Arapaho Tribes, Oklahoma (previously listed as the Cheyenne-Arapaho Tribes of Oklahoma), that this notice has been published.

Dated: December 8, 2017.
Melanie O'Brien,
Manager, National NAGPRA Program.

[FR Doc. 2018-01729 Filed 1-29-18; 8:45 am]

BILLING CODE 4312-52-P